DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Rip Current Visualization Survey and Focus Groups.

OMB Control Number: 0648-xxxx.

Form Number(s): None.

Type of Request: Regular (request for a new information collection).

Number of Respondents: 580.

Average Hours per Response: Survey, 30 minutes; focus groups, 1.5 hours.

Burden Hours: 370.

Needs and Uses: This is a request for a new collection of information. The objective of the survey and focus groups is to collect information on the current use and knowledge of NOAA's National Weather Service (NWS) products and perceptions of various rip current products. The focus groups will ask participants to explain their responses. This information will help create better rip current products used by the National Weather Service (NWS) to protect lives and prevent injury from rip currents.

The primary data collection vehicles will be an internet-based, public survey and face to face focus groups. The focus groups will target lifeguards and decision makers. Telephone and personal interviews may be employed to supplement and verify survey responses.

Affected Public: Business or other for-profit, state, local and tribal government, individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 17, 2016.
Sarah Brabson,
NOAA PRA Clearance Officer.

[FR Doc. 2016-25402 Filed 10-19-16; 8:45 am]

BILLING CODE 3510-KE-P